DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. Financial Summary of Obligations and Expenditures of Block Grant Funds (45 CFR 96.30)—0990-0236—Extension—Public Law 101-510 amended 31 U.S.C. Chapter 15 to provide that, by the end of the fifth fiscal year after the fiscal year in which the Federal government obligated the funds, the account will be cancelled. If valid charges to a cancelled account are presented after cancellation, they may be honored only by charging them to a current appropriation account, not to exceed an amount equal to one percent of the total appropriations of that account. Because of the need to determine the status of grant accounts to comply with this statutory provision, it is necessary to require an annual report on obligations and/or expenditures from all grantees under the block grant programs. Respondents: State, local or Tribal governments; Number of Respondents: 620; Average Burden per Response: one hour; Total Annual Burden: 620 hours.

OMB Desk Officer: Allison Herron Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW., Washington, DC 20503.

Comments may also be sent to Cynthia Agens Bauer, OS Reports Clearance Officer, Room 503H, Humphrey Building, 200 Independence Avenue SW., Washington, DC 20201. Written comments should be received within 30 days of this notice.

Dated: November 22, 2002.
Kerry Weems,
Deputy Assistant Secretary, Budget.

[FR Doc. 02-31084 Filed 12-9-02; 8:45 am]

BILLING CODE 4151-17-M